DEPARTMENT OF TRANSPORTATION

Federal Aviation Administration

[Docket No.: FAA-2025-2175]

Research, Engineering, and Development Advisory Committee

AGENCY: Federal Aviation Administration (FAA), U.S. Department of Transportation (DOT).

ACTION: Notice; Solicitation of Nominations for Membership.

SUMMARY: The Department solicits nominations for membership to serve on the Research, Engineering, and Development Advisory Committee (REDAC), which is intended to provide advice and recommendations to the FAA Administrator for the sustaining of the Agency's Research and Development (R&D) Portfolio.

DATES: The deadline for nominations for Committee members must be received on or before October 30, 2025.

ADDRESSES: All nomination materials should refer to the docket number above and be submitted by one of the following methods:

• Federal Rulemaking Portal: https://www.regulations.gov. Follow the online instructions for submitting comments.

• Mail: Docket Management Facility, U.S. Department of Transportation, 1200 New Jersey Avenue SE, West Building Ground Floor, Room W12-140, Washington, DC 20590-0001.

• Hand Delivery: 1200 New Jersey Avenue SE, West Building Ground Floor, Room W12-140, Washington, DC, between 9 a.m. and 5 p.m. ET, Monday through Friday, except Federal holidays.

FOR FURTHER INFORMATION CONTACT: Chinita Roundtree-Coleman, REDAC Program Manager/Lead, Federal Aviation Administration, U.S. Department of Transportation; chinita.roundtree-coleman@faa.gov or (609) 485-7149 or (609) 569-3729.

SUPPLEMENTARY INFORMATION: REDAC was established by the Secretary of Transportation pursuant to Public Law (Pub. L.) 100-591 (1988), Public Law 101-508 (1990), and 49 U.S.C. 44508, and it is operated in accordance with the Federal Advisory Committee Act, 5 U.S.C. ch. 10. The purpose of REDAC is to provide advice to the FAA Administrator regarding the needs, objectives, plans, approaches, content, and accomplishments with respect to aviation research.

In particular, REDAC will consider aviation research, future technology, and the National Airspace System—present and future. The Committee will also assist in ensuring that such research is coordinated with similar research being conducted outside of FAA. In addition, the Committee will review and comment on the aviation research grants program and on the research and training to be carried out by air transportation centers of excellence. The Committee will be continuing and is currently in operation with an indefinite charter. The Committee is expected to meet twice per year, approximately every six months. If necessary, additional meetings may be added to address critical concerns. Unless otherwise required by law or approved by the Secretary, all meetings will be held virtually.

In this notice, the Department is soliciting nominations for membership to the Committee. The Committee shall report to the FAA Administrator and shall comprise approximately 30 members representing universities, corporations, associations, consumers, other government agencies, and regional centers of air transportation excellence. Members will serve 2-year terms but may be reappointed. Past members of the Committee are welcome to apply. The Department is interested in ensuring membership is balanced fairly in terms of the points of view represented and the functions to be performed by the Committee.

Process and Deadline for Submitting Nominations: Qualified individuals can self-nominate or be nominated by any individual or organization. To be considered for REDAC, nominators should submit the following information:

(1) Name, title, and relevant contact information (including phone, fax, and email address) of the individual requesting consideration;

(2) A letter of support from a company, union, trade association, academic, or nonprofit organization on letterhead containing a brief description of why the nominee should be considered for membership;

(3) A short biography of the nominee, including professional and academic credentials; and

(4) An affirmative statement that the nominee meets all Committee eligibility requirements and identifies which stakeholder group they would represent.

Please do not send company, trade association, or organization brochures or any other information. Materials submitted should total two pages or less. Should more information be needed, DOT staff will contact the nominee, obtain information from the nominee's past affiliations, or obtain information from publicly available sources, such as the internet.

Nominations must be received before October 30, 2025. Nominees selected for appointment to the Committee will be notified by return email and by a letter of appointment.

Issued in Washington, DC.
Chinita Roundtree-Coleman,
REDAC Program Manager/Lead, Federal Aviation Administration.

[FR Doc. 2025-18986 Filed 9-29-25; 8:45 am]

BILLING CODE 4910-13-P